DEPARTMENT OF AGRICULTURE

Agricultural Marketing Service

[Docket No. ST-01-05]

Microbiological Data Program; Public Meeting

AGENCY: Agricultural Marketing Service, USDA.

ACTION: Notice of public meeting.

SUMMARY: The purpose of this notice is to notify all interested parties that the Agricultural Marketing Service (AMS) will hold a public meeting to provide a forum to discuss the Microbiological Data Program (MDP). Specifically, AMS will present a detailed data collection proposal and seek input from all interested parties on data collection techniques. This notice also sets forth the schedule and proposed agenda for the meeting.

DATES: The public meeting will be held on Thursday, January 10, 2002, from 8:30 a.m. to 1 p.m.

ADDRESSES: The public meeting will be held at the Jamie L. Whitten Federal Building, Room 107-A, United States Department of Agriculture, 12th and Jefferson Drive, SW, Washington DC 20250.

FOR FURTHER INFORMATION CONTACT: Dr. Robert L. Epstein, Science and Technology Programs, Agricultural Marketing Service, United States Department of Agriculture, 14th and Independence Avenue, Washington DC, 20250 Telephone number (202) 720-5231 or fax (202) 720-6496.

SUPPLEMENTARY INFORMATION: In the past several years the number of foodborne illness associated with domestic and imported fresh fruits and vegetables has increased. Some microorganisms once thought under control may be adapting to their environments, may be developing resistance to conventional food processing operations, and may be re-emerging with increased pathogenicity. To respond to these concerns, Congress authorized an appropriation of $6.235 million for fiscal year (FY) 2001 and $6.234 million for FY 2002, to fund a microbiological monitoring program for foodborne pathogens and indicator organisms on domestic and imported fruits and vegetables. The program is designed to collect reliable data and develop national estimates of bacterial contamination with regard to selected produce. The MDP is a voluntary data gathering program and not a regulatory or enforcement program. The Federal Food and Drug Administration, Centers of Disease Control and Prevention, USDA's National Agricultural Statistical Service, as well as 10 State Departments of Agriculture, industry and academia have provided assistance and information in formulating program policy and operating procedures. The program will be conducted under the authority of the Agricultural Marketing Act of 1946 (7 U.S.C. 1621-1627). Congress requested that AMS hold a public meeting to seek input from all interested parties (H.R. No. 275, 107th Congress, 1st session, at 65). Therefore, AMS, is giving notice of a public meeting to allow anyone, especially those who are interested in food safety issues, an opportunity to present their input regarding MDP. This public meeting is scheduled for Thursday, January 10, 2002. The public meeting will begin at 8:30 a.m. and is scheduled to end at 1 p.m. It will be held at the Jamie L. Whitten Federal Building, Room 107-A, United States Department of Agriculture, 12th and Jefferson Drive, SW, Washington DC 20250.

Those parties who wish to speak at the meeting should register on or before January 7, 2002. To register to speak, please e-mail Robert.Epstein@USDA.gov, or send a fax to Dr. Robert Epstein at (202) 720-6496. Registrants should include their name, address, and daytime telephone number. Depending on the number of registered speakers, time limits may be imposed on speakers, and speakers who have registered in advance will be given priority if time is limited.

The proposed agenda for the meeting will include discussions of: (1) MDP Overview and Framework, (2) MDP sampling rationale and principles, (3) Public health agencies program needs, and (4) Public recommendations and concerns.

Upon entering the Jamie L. Whitten Federal Building, visitors should inform security personnel that they are attending the MDP Public Meeting. Identification will be required to be admitted to the building. Security personnel will direct visitors to the registration tables located outside of Room 107-A. Registration upon arrival is necessary for all participants, including those who have registered to speak in advance.

If you require special accommodations, such as a sign language interpreter, please contact the person listed under For Further Information Contact. The meeting will be recorded, and information about obtaining a transcript will be provided at the meeting.

Dated: December 21, 2001.
A. J. Yates,
Administrator, Agricultural Marketing Service.

[FR Doc. 01-31967 Filed 12-21-01; 2:27 pm]

BILLING CODE 3410-02-P